DEPARTMENT OF JUSTICE

Antitrust Division

Notice Pursuant to the National Cooperative Research and Production Act of 1993—Consortium for Command, Control, Communications and Computer Technologies

Notice is hereby given that, on November 18, 2011, pursuant to Section 6(a) of the National Cooperative Research and Production Act of 1993, 15 U.S.C. 4301 et seq. (“the Act”), Consortium for Command, Control, Communications and Computer Technologies (“Consortium for Command”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Consortium for Command, Control, Communications and Computer Technologies, Washington, DC; 3D-4U Inc., Blacksburg, VA; Mississippi State University, Mississippi State, MS; Paul Cibuzar Consulting, Nisswa, MN; Science Applications International Corporation, Crane, IN; Scientia LLC, Bloomington, IN; Signal Innovations Group, Inc., Durham, NC; Stevens Institute of Technology, Hoboken, NJ; T2 Solutions LLC, Greenville, SC; Tiburon Associates, Inc, Dayton, OH; TS2 Tactical Spec-Solutions Inc., Bedford, IN; UXB International, Blacksburg, VA; Virginia Tech Applied Research Corporation, Blacksburg, VA; and Wyle Laboratories, Lexington Park, MD.

The general area of Consortium for Command's planned activity is (a) to enter into an Other Transaction Agreement (“OT Agreement”) with the U.S. Army (the Government), pursuant to Section 845 of the 1994 National Defense Authorization Act, as amended, for the funding of certain research, development, testing and evaluation of prototypes to be conducted as a collaboration between the Government and Consortium Members, to enhance the capabilities of the U.S. Government and its departments and agencies in the fields of Intelligence, Surveillance, and Reconnaissance (ISR) mission enabled by new technologies for command, control, communications, computing (C4), and decision-enhancing technologies; (b) participate in the establishment of sound technologies and programmatic performance goals based on the needs and requirements of the Government's Technology Objectives and create programs and secure funding for the Technology Objectives; (c) provide a unified voice to effectively articulate the global and strategically important role which ISR-enabling technologies play in current and future kinetic and non-kinetic weaponry; and (d) maximize the utilization of the Government's and Members' capabilities to effectively develop critical sensor, communications, and computer-focused technologies which can be transitioned and commercialized.

Additional information concerning the Consortium can be obtained from Charlie McBride, President, Consortium for Command, Control, Communications and Computer Technologies, 1025 Connecticut Ave. NW., Suite 904, Washington, DC 20036, Telephone (202) 466-4210, Fax (202) 466-4213, email: mcbride@cmcbride.com.

Patricia A. Brink,
Director of Civil Enforcement, Antitrust Division.

[FR Doc. 2011-31746 Filed 12-9-11; 8:45 am]

BILLING CODE 4410-11-P